COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds to the Procurement List a commodity and services to be furnished by nonprofit agencies employing persons who are blind or have other severe disabilities, and deletes from the Procurement List commodities previously furnished by such agencies.

EFFECTIVE DATE: January 7, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: On August 17, September 21, October 5, October 12 and October 19, 2001, the Committee for Purchase From People Who Are Blind or Severely Disabled published notices (66 FR 43180, 48661, 51005, 52095 and 53201) of proposed additions to and deletions from the Procurement List:

Additions

After consideration of the material presented to it concerning capability of qualified nonprofit agencies to provide the commodity and services and impact of the additions on the current or most recent contractors, the Committee has determined that the commodity and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodity and services to the Government.

2. The action will not have a severe economic impact on current contractors for the commodity and services.

3. The action will result in authorizing small entities to furnish the commodity and services to the Government.

4. There are no known regulatory alternatives which would accomplish the objectives of the Javits-Wagner-O'Day Act (41 U.S.C. 46-48c) in connection with the commodity and services proposed for addition to the Procurement List.

Accordingly, the following commodity and services are hereby added to the Procurement List:

Commodity

Trunklocker, Wood

8460-00-NSH-0003

Services

Administrative Services

U.S. Customs Service Academy, Glynco, Georgia.

Janitorial/Custodial

U.S. Army Reserve Center, Newington, Connecticut.

Mailroom Operation

At the following location: GSA Washington, 18th & F Streets NW, Washington, DC.

GSA Arlington

Crystal Mall #3, 1931 Jefferson Davis Highway, Arlington, Virginia.

GSA Regional Office Building 7th & D Streets, SW, Washington, DC.

Mailroom Operation

Internal Revenue Service, San Patricio Office Center Building, #7 Tabonuco Street, Guaynabo, Puerto Rico.

This action does not affect current contracts awarded prior to the effective date of this addition or options that may be exercised under those contracts.

Deletions

I certify that the following action will not have a significant impact on a substantial number of small entities. The major factors considered for this certification were:

1. The action will not result in any additional reporting, recordkeeping or other compliance requirements for small entities.

2. The action will not have a severe economic impact on future contractors for the commodity and services.

3. The action will result in authorizing small entities to furnish the commodity and services to the Government.

4. There are no known regulatory alternatives which would accomplish the objectives of the Javits-Wagner-O'Day Act (41 U.S.C. 46-48c) in connection with the commodity and services deleted from the Procurement List.

After consideration of the relevant matter presented, the Committee has determined that the commodities listed below are no longer suitable for procurement by the Federal Government under 41 U.S.C. 46-48c and 41 CFR 51-2.4.

Accordingly, the following commodities are deleted from the Procurement List:

Commodities

Skin Protectant Plus, Effective Prevention 6505-01-474-7707

6505-01-474-7343

Skin Protectant, Plus

6505-01-474-7724

Suspension Assembly, Liner, Helmet

8470-00-880-8814

Sheryl D. Kennerly,
Director, Information Management.

[FR Doc. 01-30365 Filed 12-6-01; 8:45 am]

BILLING CODE 6353-01-P